DEPARTMENT OF DEFENSE

Office of the Secretary

Federal Advisory Committee; Defense Business Board (DBB); Open Meeting

Agency: Department of Defense (DoD).

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Defense Business Board (DBB or Board) will meet on April 22, 2010. Subject to the availability of space, the meeting is open to the public.

DATES: The meeting will be held on Thursday, April 22, 2010, from 12:30 p.m. to 1:30 p.m.

ADDRESSES: The meeting will be held at the Pentagon, Room 3E-863, Washington, DC (escort required, see “Public's Accessibility to the Meeting” below).

FOR FURTHER INFORMATION CONTACT: For meeting information please contact Ms. Debora Duffy, Defense Business Board, 1155 Defense Pentagon, Room 5B-1088A, Washington, DC 20301-1155, Debora.Duffy@osd.mil, (703) 697-2168.

The Board's Designated Federal Officer (DFO) is Ms. Phyllis Ferguson, Defense Business Board, 1155 Defense Pentagon, Room 5B-1088A, Washington, DC 20301-1155, Phyllis.Ferguson@osd.mil, (703) 695-7563.

SUPPLEMENTARY INFORMATION:

Agenda

At this meeting, the Board will deliberate findings and draft recommendations from four Task Groups: (1) “Financial and Strategic Analysis to the Department of Defense (DoD) Investment Board,” (2) “Enhancing the Department's Management Capabilities,” (3) “Assessing DoD's Study Information Gap,” (4) “Global Economic Crisis: Effects on Key Allies' Defense Spending and Implications to DoD (Germany).” The mission of the DBB is to advise the Secretary of Defense on effective strategies for implementation of best business practices of interest to the Department of Defense.

A copy of the draft agenda for the April 22, 2010, meeting may be obtained from the Board's Web site at http://dbb.defense.gov/meetings.html under “Upcoming Meetings: 22 April 2010.”

Public's Accessibility to the Meeting

Pursuant to 5 U.S.C. 552b and 41 CFR 102-3.140 through 102-3.165, and the availability of space, this meeting is open to the public. Seating is on a first-come basis. All members of the public who wish to attend the meeting must contact Ms. Duffy (see FOR FURTHER INFORMATION CONTACT) no later than noon on Wednesday, April 14, to register and arrange for a Pentagon escort, if necessary. Public attendees requiring escort should arrive at the Pentagon Metro Entrance in time to complete security screening by 11:45 a.m. To complete security screening, please come prepared to present two forms of identification: (1) A government-issued photo I.D., and (2) any type of secondary I.D. that verifies the individual's name (i.e. debit card, credit card, work badge, social security card).

Special Accommodations

Individuals requiring special accommodations to access the public meeting should contact Ms. Duffy (see FOR FURTHER INFORMATION CONTACT) at least five (5) business days prior to the meeting so that appropriate arrangements can be made.

Procedures for Providing Public Comments

Pursuant to 41 CFR 102-3.105(j) and 102-3.140, and section 10(a)(3) of the Federal Advisory Committee Act of 1972, the public or interested organizations may submit written comments to the Board about its mission and topics pertaining to this public session.

Written comments are accepted at any time, however, written comments addressing the April 22, 2010, meeting should be received by the DFO at least five (5) business days prior to the meeting date so that the comments may be made available to the Board for their consideration prior to the meeting. Written comments should be submitted via email to the DFO (see FOR FURTHER INFORMATION CONTACT) in any of the following formats: Adobe Acrobat, WordPerfect, or Word format. Please note: Since the Board operates under the provisions of the Federal Advisory Committee Act, as amended, all public presentations will be treated as public documents and will be made available for public inspection, up to and including being posted on the Board's Web site.

Dated: March 19, 2010.
Mitchell S. Bryman,
Alternate OSD Federal Register Liaison Officer, Department of Defense.

[FR Doc. 2010-6454 Filed 3-23-10; 8:45 am]

BILLING CODE 5001-06-P